DEPARTMENT OF LABOR

Employment and Training Administration

[TA-W-65,922]

Seton Identification Products, Inc., Branford, CT; Notice of Termination of Investigation

Pursuant to Section 221 of the Trade Act of 1974, as amended, an investigation was initiated on May 15, 2009 in response to a petition filed on behalf of workers at Seton Identification Products, Inc., Branford, Connecticut. The workers are engaged in activities related to the production of signs, tags and labels.

The petitioners have requested that the petition be withdrawn. Consequently, the investigation has been terminated.

Signed in Washington, DC, this 26th day of May 2009.
Richard Church
Certifying Officer, Division of Trade Adjustment Assistance.

[FR Doc. E9-15221 Filed 6-26-09; 8:45 am]

BILLING CODE 4510-FN-P